DEPARTMENT OF LABOR

Employment and Training Administration

[TA-W-54,657]

Sterling and Adams Bentwood, Inc., a Division of Leggett & Platt Corp., Including Leased Workers of Carolina Personnel and Atwork Temp Services, Thomasville, North Carolina; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on April 22, 2004, applicable to workers of Sterling and Adams Bentwood, Inc., including leased workers of Carolina Personnel and Atwork Temp Services, Thomasville, North Carolina. The notice was published in the Federal Register on June 2, 2004 (69 FR 31137).

At the request of a company official, the Department reviewed the certification for workers of the subject firm. The workers are engaged in the production of curved plywood parts for furniture.

New information from the company shows that some of the workers separated from employment at the subject firm had their wages reported under the unemployment insurance (UI) tax account for the parent company, Leggett & Platt Corp.

Accordingly, the Department is amending the certification to properly reflect this matter.

The amended notice applicable to TA-W-54,657 is hereby issued as follows:

All workers of Sterling and Adams Bentwood, Inc., a division of Leggett & Platt Corp., including leased workers of Carolina Personnel and Atwork Temp Services, Thomasville, North Carolina, who became totally or partially separated from employment on or after March 22, 2003, through April 22, 2006, are eligible to apply for adjustment assistance under section 223 of the Trade Act of 1974, and are also eligible to apply for alternative trade adjustment assistance under section 246 of the Trade Act of 1974.

Signed in Washington, DC this 27th day of August, 2004.
Linda G. Poole,
Certifying Officer, Division of Trade Adjustment Assistance.

[FR Doc. E4-2093 Filed 9-7-04; 8:45 am]

BILLING CODE 4510-30-P